FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: FEMA Grant Administration Forms.

Type of Information Collection: Reinstatement, with change, of a previously approved collection for which approval has expired.

OMB Number: 3067-0206.

Abstract: This collection of information focuses on the standardization and consistent use of standard and FEMA forms associated with grantees requests for disaster and non-disaster Federal assistance, submission of financial and administrative reporting, and recordkeeping. The use of the forms will minimize burden on the respondents and enable FEMA to continue to improve in its grants administration practices.

Affected Public: State, Local or Tribal Government.

Estimated Total Annual Burden Hours: 31,775 hours—28,210 hours for non-disaster grants and 3,565 hours for disaster grants. A breakdown of the burden is charted below:

Non-Disasters
FEMA forms | Number of respondents (A) | Number of response per respondent (B) | Hours per response and recordkeeping (C) | Annual burden hours (AxBxC)
SF-424 Application For Federal Assistance | 56 | 1 | 45 minutes | 42 hours.
FEMA Form 20-10 Financial Status Report | 56 | 20 | 1 hour | 1120 hours.
FEMA Form 20-15 Budget Information-Construction Program | 56 | 5 | 17.2 hours | 4816 hours.
FEMA Form 20-16, 20-16A, 20-16B, 20-16C Summary Sheet For Assurances and Certification | 56 | 1 | 1.7 hours | 95.2 hours.
SF-LLL Disclosure of Lobby Activities | 56 | 2 | 10 minutes | 11.2 hours.
FEMA Form 20-17 Outlay Report and Request for Reimbursement | 56 | 15 | 17.2 hours | 14448 hours.
FEMA Form 20-18 Report of Government Property | 56 | 2 | 4.2 hours | 470.4 hours.
FEMA Form 20-19 Reconciliation of Grants and Cooperative Agreements | 56 | 20 | 5 minutes | 56 hours.
FEMA Form 20-20 Budget Information-Non-Construction Program | 56 | 10 | 9.7 hours | 5432 hours.
FEMA Form 76-10A Obligating Document For Award/Amendment | 56 | 2 | 1.2 hour | 134.4 hours.
Audits of States, Local Governments, and Non-Profit Organizations | 56 | 1 | 30 hours | 1680 hours.
Total |  | 4,424 |  | 28,210 hours.

Disasters
Fema forms | Number of respondents (A) | Number of response per respondent (B) | Hours per response and recordkeeping (C) | Annual burden hours (AxBxC)
SF-424 Application For Federal Assistance | 56 | 64 | 2 hours | 128 hours.
FEMA Form 20-10 Financial Status Report | 56 | 256 | 10.5 hours | 2688 hours.
FEMA Form 20-16, 20-16A, 20-16B, 20-16C Summary Sheet For Assurances and Certification | 56 | 64 | 1 hour | 64 hours.
FEMA Form 20-18 Report of Government Property | 56 | 64 | 1 hour | 64 hours.
FEMA Form 20-20 Budget Information-Non-Construction Program | 56 | 64 | 9.7 hours | 621 hours.
Total |  | 512 |  | 3,565 hours.

Estimated Costs to Respondents: $600,547.50.

Comments

Interested persons are invited to submit written comments on the proposed information collection to Attention: Desk Officer for the Federal Emergency Management Agency, Office of Management and Budget, Office of Information and Regulatory Affairs, 725 17th Street, NW., Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3347, or e-mail address: muriel.anderson@fema.gov.

Dated: November 20, 2000.
Reginald Trujillo,
Director, Program Services Division, Operations Support Directorate.

[FR Doc. 00-30075 Filed 11-24-00; 8:45 am]

BILLING CODE 6718-01-P